DEPARTMENT OF JUSTICE

Office of Justice Programs

Agency Information Collection Activities: Proposed Collection; Comments Requested

Action: 60-day emergency notice of information collection under review: study on the response of law enforcement to emergency calls involving domestic violence.

The Department of Justice, Office of Justice Programs, has submitted the following information collection request to the Office of Management and Budget (OMB) for review and clearance in accordance with emergency review procedures of the Paperwork Reduction Act of 1995. OMB approval has been requested by November 3, 2003. The proposed information collection is published to obtain comments from the public and affected agencies. If granted, the emergency approval is only valid for 180 days. Comments should be directed to OMB, Office of Information and Regulation Affairs, Attention: Department of Justice Desk Officer, Washington, DC 20503. Comments are encouraged and will be accepted for 60 days until December 29, 2003.

During the first 60 days of this same review period, a regular review of this information collection is also being undertaken. All comments and suggestions, or questions regarding additional information, to include obtaining a copy of the proposed information collection instrument with instructions, should be directed to Bernie Auchter, Senior Social Science Analyst, National Institute of Justice, 810 7th Street NW., Washington, DC 20531.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of Information Collection: New Collection.

(2) Title of the Form/Collection: Study on the Response of Local Law Enforcement to Emergency Calls Involving Domestic Violence.

(3) Agency form number, if any, and the applicable component of the department sponsoring the collection: Form Number none. National Institute of Justice, Office of Justice Programs, Department of Justice.

(4) Affected public who will be asked or required to respond, as well as a brief abstract: Affected public includes law enforcement administrators or other persons responsible for emergency domestic violence policies and procedures within sampled jurisdictions. The survey will collect information on police policies and procedures for responding to emergency domestic violence calls. Key questions are: (1) How do local law enforcement agencies nationwide respond to domestic violence emergency calls for service? and (2) How do local law enforcement agencies and their dispatch units (including 911 centers) coordinate, prioritize, and decide on the appropriate operational response to domestic violence calls for service? The data will be used to advise the National Institute of Justice, The Violence Against Women Office, and the Subcommittee on Commerce, Justice, and State Appropriations of the U.S. Senate and House of Representatives Appropriations Committee.

(5) An estimate of the total number of respondents and the amount of time estimated for an average respondent to respond: The estimated number of respondents is 405. The survey will take an average of 30 minutes to complete.

(6) An estimate of the total public burden (in hours) associated with this collection: An estimated 203 hours of public burden is associated with this collection.

If additional information is required contact Ms. Brenda E. Dyer, Deputy Clearance Officer, United States Department of Justice, Justice Management Division, Policy and Planning Staff, Patrick Henry Building, Suite 1600, 601 D Street NW., Washington, DC 20530.

Dated: October 21, 2003.
Brenda E. Dyer,
Deputy Clearance Officer, Department of Justice.

[FR Doc. 03-27377 Filed 10-29-03; 8:45 am]

BILLING CODE 4410-18-P